DEPARTMENT OF TRANSPORTATION

Federal Aviation Administration

Notice of Passenger Facility Charge (PFC) Approvals and Disapprovals

AGENCY: Federal Aviation Administration (FAA), DOT.

ACTION: Monthly Notice of PFC Approvals and Disapprovals. In April 2005, there were two applications approved. This notice also includes information on two applications, both approved in March 2005, inadvertently left off the March 2005 notice. Additionally, two approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Lehigh-Northampton Airport Authority, Allentown, PA.

Application Number: 05-07-C-00-ABE.

Application Type: Impose and use a PFC.

PFC Level: $4.50.

Total PFC Revenue Approved in This Decision: $27,940,236.

Earliest Charge Effective Date: June 1, 2005.

Estimated Charge Expiration Date: August 1, 2018.

Class of Air Carriers Not Required To Collect PFC's: Air taxi/commercial operators filing FAA Form 1800-31.

Determination: Approved. Based on information submitted in the public agency's application, the FAA has determined that the proposed class accounts for less than 1 percent of the total annual enplanements at Lehigh Valley International Airport.

Brief Description of Projects Approved For Collection and Use: Main terminal renovations and additions.

Decision Date: March 28, 2005.

FOR FURTHER INFORMATION CONTACT: Lori Ledebohm, Harrisburg Airports District Office, (717) 730-2835.

Public Agency: Friedman Memorial Airport Authority, Hailey, ID.

Application Number: 05-05-C-00-SUN.

Application Type: Impose and use a PFC.

PFC Level: $4.50.

Total PFC Revenue Approved in This Decision: $711,054.

Earliest Charge Effective Date: June 1, 2005.

Estimated Charge Expiration Date: April 1, 2009.

Classes of Air Carriers Not Required To Collect PFC's: (1) Operations by air taxi/commercial operators utilizing aircraft having a maximum seating capacity of less than 20 passengers when enplaning revenue passengers in a limited, irregular/non-scheduled, or special service manner; (2) operations by air taxi/commercial operators, without regard to seating capacity, for revenue passengers transported for student instruction, non-stop sightseeing flights that begin and end at Friedman Memorial Airport (SUN) and are conducted within a 25-mile radius of the same airport; and (3) operations in supported of fire-fighting charters, ferry or training flights, air ambulance/medivac flights, and aerial photography or survey flights.

Determination: Approved. Based on information submitted in the public agency's application, the FAA has determined that each proposed class accounts for less than 1 percent of the total annual enplanements at SUN.

Brief Description of Projects Approved for Collection and Use:

Property acquisition.

Passenger terminal building addition/renovation.

Airport traffic control voice communication control system.

Snow removal equipment acquisition.

Aircraft rescue and firefighting truck.

Aircraft rescue and firefighting building expansion.

Master plan update.

Airport site and feasibility study.

Airport traffic control tower improvements, phase 1.

Terminal building improvements.

Acquire trailer-mounted deicing equipment.

Automated weather observation system.

Terminal access road, phase 1.

Brief Description of Withdrawn Projects:

Safety area grading and runway shift.

Install engineered materials arresting system on runway 13.

Snow removal equipment/maintenance vehicle building.

Airport master plan preferred airport alternative.

Environmental assessment (pre-environmental impact statement) for the preferred airport alternative.

Acquire snow removal equipment.

Replace runway 13/31 porous friction course.

Determination: These projects were withdrawn by the public agency on February 18, 2005. Therefore, the FAA did not rule on these projects in this decision.

Air traffic control tower improvements, phase 2.

Determination: This project was withdrawn by the public agency on December 16, 2004. Therefore, the FAA did not rule on these projects in this decision.

Decision Date: March 29, 2005.

FOR FURTHER INFORMATION CONTACT: Suzanne Lee-Pang, Seattle Airports District Office, (425) 227-2654.

Public Agency: Victoria County, Victoria, TX.

Application Number: 05-04-C-00-VCT.

Application Type: Impose and use a PFC.

PCF Level: $4.50.

Total PFC Revenue Approved in this Decision: $262,549.

Earliest Charge Effective Date: July 1, 2005.

Estimated Charge Expiration Date: January 1, 2009.

Class of Air Carriers Not Required To Collect PFC's: None.

Brief Description of Projects Approved For Collection and Use:

Rehabilitate runway 12L/30R.

Improve runway safety areas.

Improve airport drainage.

Rehabilitate taxiways E and F.

Install security fencing.

Decision Date: April 5, 2005.

FOR FURTHER INFORMATION CONTACT: G. Thomas Wade, Southwest Region Airports Division, (817) 222-5613.

Public Agency: City of Greenville, MS.

Application Number: 05-04-C-00-GLH.

Application Type: Impose and use a PFC.

PFC Level: $4.50.

Total PFC Revenue Approved in this Decision: $125,240.

Earliest Charge Effective Date: December 1, 2005.

Estimated Charge Expiration Date: June 1, 2008.

Class of Air Carriers Not Required to Collect PFC's: Air taxi/commercial operators filing FAA Form 1800-31.

Determination: Approved. Based on information submitted in the public agency's application, the FAA has determined that the proposed class accounts for less than 1 percent of the total annual enplanements at Mid-Delta Regional Airport.

Brief Description of Projects Approved for Collection and Use:

Commercial terminal building renovations, phase 2.

Airfield guidance signage improvements.

Airfield pavement marking improvements.

Terminal area apron lighting replacement.

Airfield electrical vault emergency generator replacement.

PFC application charges.

Partial parallel taxiway B extension.

Convert runway 9/27 to taxiway, remove taxiway F east of runway 18R/36L, phase 2.

Commercial terminal building renovations, phase 3.

Brief Description of Projects Approved for Use:

Rehabilitate runway 9/27 and convert to taxiway.

Terminal building fire escape stairwell.

Terminal area drainage improvement and parking lot relocation.

Decision Date: April 20, 2005.

FOR FURTHER INFORMATION CONTACT: Patrick D. Vaught, Jackson Airports District Office, (601) 664-9900.

Amendments to PFC Approvals

Amendment No. city, state | Amendment approved date | Original approved net PFC revenue | Amended approved net PFC revenue | Original estimated charge exp. date | Amended estimated charge exp. date
95-01-C-02-MCW | 03/25/05 | $302,790 | $302,090 | 04/01/03 | 04/01/03
Mason City, IA
99-03-C-01-FYV | 04/14/05 | 960,303 | 953,056 | 01/01/01 | 01/01/01
Fayettevile, AR

Issued in Washington, DC on August 4, 2005.
Joe Hebert,
Manager, Financial Analysis and Passenger Facility Charge Branch.

[FR Doc. 05-15859 Filed 8-10-05; 8:45 am]

BILLING CODE 4910-13-M